DEPARTMENT OF DEFENSE

Department of the Air Force

Department of the Air Force Scientific Advisory Board; Notice of Federal Advisory Committee Meeting

AGENCY: Department of the Air Force Scientific Advisory Board, DOD.

ACTION: Notice of federal advisory committee meeting.

SUMMARY: The Department of Defense (DoD) is publishing this notice to announce that the following Federal Advisory Committee meeting of the Department of the Air Force Scientific Advisory Board will take place.

DATES: Closed to the public. 20 October 2022 from 9:30 a.m. to 3:15 p.m. Eastern Time.

ADDRESSES: The meeting will be held at The MITRE Corporation, 7525 Colshire Drive, McLean, VA 22102.

FOR FURTHER INFORMATION CONTACT: Lt Col Blythe Andrews, (240) 470-4566 (Voice), blythe.andrews@us.af.mil (Email). Mailing address is 1500 West Perimeter Road, Ste. #3300, Joint Base Andrews, MD 20762. Website: https://www.scientificadvisoryboard.af.mil/. The most up-to-date changes to the meeting agenda can be found on the website.

SUPPLEMENTARY INFORMATION: This meeting is being held under the provisions of the Federal Advisory Committee Act (FACA) of 1972 (5 U.S.C., appendix, as amended), the Government in the Sunshine Act of 1976 (5 U.S.C. 552b, as amended), and 41 CFR 102-3.140 and 102-3.150.

Purpose of the Meeting: The purpose of this Department of the Air Force Scientific Advisory Board meeting is for the Parent Board to receive final outbriefs on the FY22 studies, CCA and RAI. Agenda: [All times are Eastern Standard Time] 9:45 a.m.-10:15 a.m. Welcome Remarks 10:15 a.m.-12:00 p.m. Responsible Artificial Intelligence for Supporting Combat Engagements (RAI) 1:00 p.m.-2:45 p.m. Collaborative Combat Aircraft for Next Generation Air Dominance (CCA) 3:00 p.m.-3:15 p.m. Closing Remarks. In accordance with section 10(d) of the Federal Advisory Committee Act, as amended, 5 U.S.C. appendix and 41 CFR 102-3.155, the Administrative Assistant of the Air Force, in consultation with the Air Force General Counsel, has agreed that the public interest requires the United States Department of the Air Force Scientific Advisory Board meeting be closed to the public because it will involve discussions involving classified matters covered by 5 U.S.C. 552b(c)(1).

Written Statements: Any member of the public wishing to provide input to the United States Department of the Air Force Scientific Advisory Board should submit a written statement in accordance with 41 CFR 102-3.140(c) and section 10(a)(3) of the Federal Advisory Committee Act and the procedures described in this paragraph. Written statements can be submitted to the Designated Federal Officer at the address detailed above at any time. The Designated Federal Officer will review all submissions with the Department of the Air Force Scientific Advisory Board Chairperson and ensure they are provided to members of the Department of the Air Force Scientific Advisory Board. Written statements received after the meeting that are the subject of this notice may not be considered by the Scientific Advisory Board until the next scheduled meeting.

Adriane Paris,
Air Force Federal Register Liaison Officer.

[FR Doc. 2022-22010 Filed 10-7-22; 8:45 am]

BILLING CODE 5001-10-P